LEGAL SERVICES CORPORATION

Sunshine Act Meeting of the Board of Directors

Time and Date: The Board of Directors of the Legal Services Corporation will meet on June 30, 2001. The meeting will begin at 9 a.m. and continue until conclusion of the Board's agenda.

Location: Sheraton Harborside Hotel, 250 Market Street, Portsmouth, NH.

Status of Meeting: Open, except that a portion of the meeting may be closed pursuant to a vote of the Board of Directors to hold an executive session. At the closed session, the Corporation's General Counsel will report to the Board on litigation to which the Corporation is or may become a party, and the Board may act on the matters reported. The closing is authorized by the relevant provisions of the Government in the Sunshine Act [5 U.S.C. 552b(c)(10)] and the corresponding provisions of the Legal Services Corporation's implementing regulation [45 CFR 1622.5(h)]. A copy of the General Counsel's Certification that the closing is authorized by law will be available upon request.

Matters to be Considered:

Open Session

1. Approval of agenda.

2. Approval of the minutes of the Board's meeting of January 27, 2001.

3. Approval of the minutes of the Executive Session of the Board's meeting of January 27, 2001.

4. Approval of minutes of the Board's telephonic meeting of May 29, 2001.

5. Scheduled Public Speakers.

6. Chairman's Report.

7. Members' Report.

8. Inspector General's Report.

9. President's Report.

10. Consider and act on the report of the Board's Committee on Provision for the Delivery of Legal Services.

11. Consider and act on the report of the Board's Operations and Regulations Committee.

12. Consider and act on the report of the Board's Finance Committee.

13. Consider and act on contractual arrangements with John Erlenborn.

14. Consider and act on the election of a new Vice-Chair.

15. Consider and act on short-term contract extensions for Randi Youells, Mauricio Vivero, and Victor Fortuno.

16. Report by Danilo Cardona on the operations of the Office of Compliance and Enforcement.

Closed Session

17. Briefing ¹ by the Inspector General on the activities of the Office of Inspector General.

¹ Any portion of the closed session consisting solely of staff briefings does not fall within the Sunshine Act's definition of the term “meeting” and, therefore, the requirements of the Sunshine Act do not apply to any such portion of the closed session. 5 U.S.C. 552(b)(a)(2) and (b). See also 45 CFR 1622.2 & 1622.3

18. Consider and act on the Office of Legal Affairs' report on potential and pending litigation involving LSC.

Open Session

19. Consider and act on other business.

20. Public Comment.

Contact Person for Information: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth S. Cushing, at (202) 336-8800.

Dated: June 21, 2001.
Victor M. Fortuno,
Vice President for Legal Affairs, General Counsel & Corporate Secretary.

[FR Doc. 01-16066 Filed 6-22-01; 9:31 am]

BILLING CODE 7050-01-P